DEPARTMENT OF TRANSPORTATION

Federal Aviation Administration

[Docket No. 30086]

Report to Congress on Effects of Nonmilitary Helicopter Noise on Individuals in Densely Populated Areas in the Continental United States

AGENCY: Federal Aviation Administration, DOT.

ACTION: Notice, extend comment period.

SUMMARY: This notice is announcing an extension to the comment period on a recent notice regarding the effects of nonmilitary helicopter noise that otherwise impacts individuals of densely populated areas in the continental United States. The recent notice was published in the Federal Register on June 23. This notice also announces the FAA plans to hold two public workshops regarding submitted comments on the nonmilitary helicopter noise issue.

DATES: Comments must be received on or before September 15, 2000.

ADDRESSES: Comments on this notice should be mailed, in triplicate to the Federal Aviation Administration, Office of Chief Counsel, Attn: Rules Docket, Docket No. 30086, 800 Independence Avenue, SW., Room 915H, Washington, DC 20591. Comments may be inspected in Room 915G between 8:30 a.m. and 5 p.m., weekdays, except Federal holidays.

FOR FURTHER INFORMATION CONTACT: Mr. Sandy R. Liu, Noise Division (AEE-100), Office of Environment and Energy, Federal Aviation Administration, 800 Independence Avenue, SW., Washington, DC 20591; telephone (202) 493-4864; fax (202) 267-5594.

SUPPLEMENTARY INFORMATION:

Comments Invited

On June 23, the FAA published a notice in the Federal Register (65 FR 39220) requesting comments and information to specific issues that the FAA would consider in preparing its report to Congress on effects of nonmilitary helicopter noise on individuals in densely populated areas. Given the concerns expressed by several commenters regarding the public interest on helicopter noise, the FAA is extending the opportunity for public comment from July 24 to September 15 in order that interested persons can express their concerns and contribute to the study process. In addition, to expound on the information gathering process, the FAA plans to conduct two public workshops to allow for the submitted comments to be reviewed and discussed prior to being compiled for the report to Congress due in April 2001. Since this is a national study and program, the public workshops will be in Washington, DC. The two workshops are scheduled to be held on:

August 16, 2000 (Wednesday), Federal Aviation Administration, 800 Independence Avenue, SW., Washington, DC 20591, 3rd floor in FAA Auditorium, from 8:30 a.m. to 5 p.m. and

October 20, 2000 (Friday), Federal Aviation Administration, 800 Independence Avenue, SW., Washington, DC 20591, 2nd Floor in Bessie Coleman Meeting Room, from 8:30 a.m. to 5 p.m.

All comments received at the public workshops concerning this notice will be filed in the docket. The docket is available for public inspection both before and after the closing date for comments.

Background

Section 747 of the Federal Aviation Administration Authorization Act of 2000 is a congressional mandate that is on a fast track 1-year schedule with nominal funds. This mandate specifies the FAA to conduct a noise study on the effects of nonmilitary helicopter noise on individuals in densely populated areas in the continental United States and report associated noise reduction recommendations to Congress. This study shall focus on air traffic control procedures to address the helicopter noise problems and take into account the needs of law enforcement. The major goal of the study is to identify the type of helicopter operations (either law enforcement, electronic news gathering (ENG), sightseeing tour, emergency medical services (EMS), or corporate executive commute) that elicit negative response by individuals for typical densely populated areas and understand whether air traffic control procedures are applicable to addressing helicopter noise reduction in ways which are not unduly restrictive on operations.

The FAA encourages public participation in this initiative. The data received will be considered in preparing the report to Congress. Comments responding to the questions stated in the June 23 Federal Register notice should be mailed to the office designated in the ADDRESSES heading and include the docket number. Commenters who wish the FAA to acknowledge the receipt of their comments must submit with their comments a pre-addressed, stamped postcard on which the following statement is made: “Comments to Docket No. 30086.” The postcard will be date-stamped by the FAA and returned to the commenter.

Look for more detailed information regarding this effort to be posted on: http://www.aee.faa.gov/

Issued in Washington, DC, on August 9, 2000.
Paul R. Dykeman,
Deputy Director of Environment and Energy.

[FR Doc. 00-20588 Filed 8-11-00; 8:45 am]

BILLING CODE 4910-13-M